DEPARTMENT OF DEFENSE

Office of the Secretary

[Docket ID: DOD-2018-OS-0057]

Submission for OMB Review; Comment Request

AGENCY: Office of the Chief Management Officer (CMO), DoD.

ACTION: 30-Day information collection notice.

SUMMARY: The Department of Defense has submitted to OMB for clearance the following proposal for collection of information under the provisions of the Paperwork Reduction Act.

DATES: Consideration will be given to all comments received by July 10, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: PFPA Recruitment, Medical, and Fitness Forms; PFPA Form 1400, PFPA Form 6040, PFPA Form 1407, PFPA Form 1410, PFPA Form 1408, PFPA Form 1409; OMB Control Number 0704-XXXX.

Type of Request: New.

Information Being Collected from Applicants (PFPA Form 1400, PFPA Form 6040).

Affected Public: Individuals and Households.

Annual Burden Hours: 220.

Number of Respondents: 240.

Responses Per Respondent: 3.

Annual Responses: 720.

Average Burden Per Response: 18.33 minutes.

Frequency: As required.

Information Being Collected from Former Supervisors (PFPA Form 1407 and PFPA Form 1410).

Affected Public: Individuals and Households.

Annual Burden Hours: 240.

Number Of Respondents: 1920.

Responses Per Respondent: 1.

Annual Responses: 1920.

Average Burden Per Response: 7.5 minutes.

Information Being Collected from References (PFPA Form 1409).

Affected Public: Individuals and Households.

Annual Burden Hours: 160.

Number Of Respondents: 960.

Responses Per Respondent: 1.

Annual Responses: 960.

Average Burden Per Response: 10 minutes.

Information Being Collected from Other Law Enforcement Agencies (PFPA Form 1408).

Affected Public: Individuals and Households.

Annual Burden Hours: 20.

Number Of Respondents: 240.

Responses Per Respondent: 1.

Annual Responses: 240.

Average Burden Per Response: 5 minutes.

Needs and Uses: This information collection is essential to PFPA and is used to make a determination of fitness for federal employment in the field of law enforcement. To that end, criminal, background and medical information is collected on the applicants.

Affected Public: Individuals and Households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: June 5, 2019.
Aaron T. Siegel,
Alternate OSD Federal Register Liaison Officer, Department of Defense.

[FR Doc. 2019-12122 Filed 6-7-19; 8:45 am]

BILLING CODE 5001-06-P